DEPARTMENT OF LABOR

Employment and Training Administration

[TA-W-37,898]

Onix Process Analysis, Inc., Angleton, TX; Notice of Termination of Investigation

Pursuant to Section 221 of the Trade Act of 1974, an investigation was initiated on July 24, 2000, in response to a petition filed by a company official on behalf of workers at Onix Process Analysis, Inc., Angleton, Texas.

The company official submitting the petition has requested that the petition be withdrawn. Consequently, further investigation in this case would serve no purpose, and the investigation has been terminated.

Signed in Washington, DC this 30th day of August, 2000.
Edward A. Tomchick,
Director, Division of Trade Adjustment Assistance.

[FR Doc. 00-23934 Filed 9-15-00; 8:45 am]

BILLING CODE 4510-30-M